DEPARTMENT OF HOMELAND SECURITY

[Docket No. DHS-2009-0082]

Homeland Security Science and Technology Advisory Committee

AGENCY: Science and Technology Directorate, DHS.

ACTION: Committee Management; Notice of Closed Federal Advisory Committee Meeting.

SUMMARY: The Homeland Security Science and Technology Advisory Committee will meet July 21-23, 2009, at Strategic Analysis, Inc. Executive Conference Center, 3601 Wilson Blvd., Suite 600, Arlington, Virginia. This meeting will be closed to the public.

DATES: The Homeland Security Science and Technology Advisory Committee will meet July 21, 2009, from 9 a.m. to 5 p.m., July 22, 2009, from 9 a.m. to 5 p.m. and on July 23, 2009, from 9 a.m. to 3 p.m.

ADDRESSES: The meeting will be held at Strategic Analysis, Inc. Executive Conference Center, 3601 Wilson Blvd., Suite 600, Arlington, Virginia. Requests to have written material distributed to each member of the committee prior to the meeting should reach the contact person at the address below by Friday, July 10, 2009. Send written material to Ms. Deborah Russell, Science and Technology Directorate, Department of Homeland Security, 245 Murray Lane, Bldg. 410, Washington, DC 20528. Comments must be identified by DHS-2009-0082 and may be submitted by one of the following methods:

• Federal eRulemaking Portal: http://www.regulations.gov. Follow the instructions for submitting comments.

• E-mail: HSSTAC@dhs.gov. Include the docket number in the subject line of the message.

• Fax: 202-254-6173.

• Mail: Ms. Deborah Russell, Science and Technology Directorate, Department of Homeland Security, 245 Murray Lane, Bldg. 410, Washington, DC 20528.

Instructions: All submissions received must include the words “Department of Homeland Security” and the docket number for this action. Comments received will be posted without alteration at http://www.regulations.gov, including any personal information provided.

Docket: For access to the docket to read background documents or comments received by the HSSTAC, go to http://www.regulations.gov.

FOR FURTHER INFORMATION CONTACT: Ms. Deborah Russell, Science and Technology Directorate, Department of Homeland Security, 245 Murray Lane, Bldg. 410, Washington, DC 20528 202-254-5739.

SUPPLEMENTARY INFORMATION: Notice of this meeting is given under the Federal Advisory Committee Act, 5 U.S.C. Annotated, Appendix 2 (Pub. L. 92-463).

At this meeting, the Committee will receive classified, SECRET-level updated threat briefings; conduct classified reviews of sensor technologies in science and technology; and receive classified reports from the Committee panels. In addition, intelligence agencies, Department of Defense and Homeland Security experts will present SECRET-level briefings concerning these matters sensitive to homeland security.

Basis for Closure: In accordance with section 10(d) of the Federal Advisory Committee Act, it has been determined that the Homeland Security Science and Technology Advisory Committee meeting concerns sensitive Homeland Security information and classified matters within the meaning of 5 U.S.C. 552b(c)(1) and (c)(9)(B) which, if prematurely disclosed, would significantly jeopardize national security and frustrate implementation of proposed agency actions and that, accordingly, the portion of the meeting that concerns these issues will be closed to the public.

Dated: June 17, 2009.
Bradley I. Buswell,
Under Secretary for Science and Technology (Acting).

[FR Doc. E9-14903 Filed 6-24-09; 8:45 am]

BILLING CODE 9110-9F-P